DEPARTMENT OF DEFENSE

Notice of Intent To Prepare An Environmental Impact Statement (EIS) On the Proposal To Relocate the 18th Aggressor Squadron From Eielson Air Force Base (EAFB), Alaska to Joint Base Elmendorf-Richardson (JBER), Alaska and Rightsizing the Remaining Wing Overhead/Base Operating Support at Eielson AFB, AK

AGENCY: Pacific Air Forces, United States Air Force, DOD.

ACTION: Notice of Intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of its intent to prepare an Environmental Impact Statement (EIS) considering a proposal to relocate the 18th Aggressor Squadron from Eielson AFB to Joint Base Elmendorf-Richardson and rightsizing the remaining Wing Overhead/Base Operating Support at Eielson.

Proposed Action: The Air Force proposes to relocate the 18th Aggressor Squadron (18 AGRS) from Eielson AFB (EAFB) to Joint Base Elmendorf-Richardson (JBER); 18 AGRS consists of 18 assigned F-16 aircraft and 3 back-up F-16s. This proposed relocation includes removing 623 military personnel from EAFB, transferring approximately 542 positions to JBER, and eliminating 81 positions. The Air Force proposes to reduce military and civilian authorizations at EAFB appropriate to the command structure required for the remaining operations. Current planning estimates call for an end-state of approximately 769 appropriated funds personnel at EAFB after FY15 (559 military and 210 civilian personnel).

EAFB will continue to host Red Flag and Distant Frontier training exercises with the 18 AGRS operating out of JBER under one of two possible alternatives:

Alternative 1: 18 AGRS would deploy to EAFB for the duration of the Red Flag exercises.

Alternative 2 The 18 AGRS F-16 aircraft would fly to and from the Joint Pacific Alaska Range Complex (JPARC) Military Operations Areas (MOAs) in the vicinity of EAFB on a daily basis during exercises, requiring aerial refueling. The participating F-16 aircraft would not routinely land at EAFB for refueling.

Both Alternatives would operate in the same air space as currently used for Red Flag and Distant Frontier exercises. Transient aircraft and personnel from outside of Alaska participating in these exercises would continue to deploy to and operate out of EAFB.

This EIS will also evaluate the impacts of the No Action Alternative: Keeping the 18 AGRS stationed at EAFB.

Scoping: In order to effectively define the full range of issues to be evaluated in the EIS, the Air Force will determine the scope of the analysis by soliciting comments from interested local, state and federal agencies, as well as interested members of the public.

The Air Force intends to hold scoping meetings as follows:

Dates | Locations
February 4-5, 2013 | Anchorage and Mat-Su Boroughs, AK.
February 6-7, 2013 | Fairbanks and North Pole, AK.

All meetings will be held from 6 p.m. to 8 p.m., AST. Specific dates, times, and locations for the scoping meetings will be published in local media a minimum of 15 days prior to the scoping meeting dates.

Public scoping comments will be accepted either verbally or in writing at the scoping meetings. Additional scoping comments will be accepted at any time during the EIS process. However, in order to ensure the Air Force has sufficient time to consider public input, scoping comments should arrive at the address below by March 1, 2013.

FOR FURTHER INFORMATION CONTACT: Mr. Allen Richmond, AFCEC/CZN, 2261 Hughes Ave., Ste. 155, Lackland AFB, TX 78236-9853, Telephone: (210) 395-8555.

Tommy W. Lee,
Acting Air Force Federal Register Officer, DAF.

[FR Doc. 2013-01013 Filed 1-17-13; 8:45 am]

BILLING CODE 5001-10-P